DEPARTMENT OF COMMERCE

National Oceanic and Atmospheric Administration

[RTID 0648-XA947]

Endangered and Threatened Species; Initiation of 5-Year Review for Cook Inlet Beluga Whale (Delphinapterus leucas) Distinct Population Segment; Extension of Information Request Period

AGENCY: National Marine Fisheries Service (NMFS), National Oceanic and Atmospheric Administration (NOAA), Commerce.

ACTION: Notice; extension of information request period.

SUMMARY: NMFS hereby extends the information request period on the notice of initiation of a 5-year review of the endangered Cook Inlet beluga whale (Delphinapterus leucas) distinct population segment (DPS) under the Endangered Species Act (ESA).

DATES: Information must be received by June 25, 2021.

ADDRESSES: Submit your information, identified by docket number NOAA-NMFS-2021-0010, by either of the following methods:

• Federal e-Rulemaking Portal: Go to www.regulations.gov. In the Search box, enter the above docket number for this notice. Then, click on the Search icon. On the resulting web page, click the “Comment” icon, complete the required fields, and enter or attach your comments.

• Mail: Submit written information to Jon Kurland, Assistant Regional Administrator for Protected Resources, Alaska Region NMFS, Attn: Records Office. Mail comments to P.O. Box 21668, Juneau, AK 99802-1668.

Instructions: NMFS may not consider comments or other information if sent by any other method, to any other address or individual, or received after the comment period ends. All comments and information received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Jill Seymour, NMFS Alaska Region, 907-271-5006, jill.seymour@noaa.gov.

SUPPLEMENTARY INFORMATION: On February 25, 2021, we announced the initiation of a 5-year review of the Cook Inlet beluga whale DPS under the ESA (86 FR 11504). As part of that notice, we solicited information relevant to the review and announced a 60-day information request period to end on April 26, 2021. NMFS received a request to extend the information request period to June 25, 2021, in order to provide additional time to gather relevant information and prepare submissions in a thorough manner. We are therefore extending the close of the information request period to June 25, 2021, as requested to provide additional time for public input.

Authority: 16 U.S.C. 1531 et seq.

Dated: March 16, 2021.
Angela Somma,
Chief, Endangered Species Conservation Division, Office of Protected Resources, National Marine Fisheries Service.

[FR Doc. 2021-05835 Filed 3-19-21; 8:45 am]

BILLING CODE 3510-22-P